DEPARTMENT OF COMMERCE

International Trade Administration

[A-523-812]

Circular Welded Carbon-Quality Steel Pipe From the Sultanate of Oman: Final Results of Antidumping Duty Administrative Reviews; Deferred 2019-2020 Period and Concurrent 2020-2021 Period

AGENCY: Enforcement and Compliance, International Trade Administration, Department of Commerce.

SUMMARY: The U.S. Department of Commerce (Commerce) determines that circular welded carbon-quality steel pipe (CWP) from the Sultanate of Oman (Oman) was sold in the United States at less than normal value (NV) during the periods of review (POR), December 1, 2019, through November 30, 2020, and December 1, 2020, through November 30, 2021.

DATES: Applicable June 15, 2023.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On December 28, 2022, Commerce published the Preliminary Results of the deferred 2019-2020 administrative review and the concurrent 2020-2021 administrative review of the antidumping duty order on CWP from Oman.¹ We invited interested parties to comment on the Preliminary Results.² On April 20, 2023, we extended the deadline for the final results of these reviews until June 8, 2023.³ The administrative review for the 2019-2020 POR covers Al Jazeera Steel Products Co. SAOG (Al Jazeera).⁴ The administrative review for the 2020-2021 POR covers four exporters/producers,⁵ of which we selected Al Jazeera as the mandatory respondent.⁶ For a summary of the events that occurred since the Preliminary Results, see the Issues and Decision Memorandum.⁷ Commerce conducted these reviews in accordance with section 751(a) of the Tariff Act of 1930, as amended (the Act).

¹ See Circular Welded Carbon-Quality Steel Pipe From the Sultanate of Oman: Preliminary Results of Antidumping Duty Administrative Review; Deferred 2019-2020 Period and Concurrent 2020-2021 Period, 87 FR 79865 (December 28, 2022) (Preliminary Results), and accompanying Preliminary Decision Memorandum (PDM).

² See Preliminary Results, 87 FR at 79865.

³ See Memorandum, “Extension of Deadline for Final Results of Antidumping Duty Administrative Review,” dated April 20, 2023.

⁴ See Initiation of Antidumping and Countervailing Duty Administrative Reviews, 87 FR 6487 (February 4, 2022) (Initiation Notice) at fn. 6.

⁵ The four companies are: Al Jazeera; Al Samna Metal Manufacturing & Trading Company LLC (Al Samna); Bollore Logistics (Oman) LLC (Bollore Logistics); and Transworld Shipping Trading & Logistics Services LLC (Transworld Shipping). See Initiation Notice.

⁶ See Preliminary Results, 87 FR at 79865.

⁷ See Memorandum, “Issues and Decision Memorandum for the Final Results of the Deferred 2019-2020 and Concurrent 2020-2021 Antidumping Duty Administrative Review: Circular Welded Carbon-Quality Steel Pipe from the Sultanate of Oman,” dated concurrently with, and hereby adopted by, this notice (Issues and Decision Memorandum).

Scope of the Order ⁸

⁸ See Circular Welded Carbon-Quality Steel Pipe from the Sultanate of Oman, Pakistan, and the United Arab Emirates: Amended Final Affirmative Antidumping Duty Determination and Antidumping Duty Orders, 81 FR 91906 (December 19, 2016) (Order).

The merchandise subject to the Order is CWP from Oman. For a complete description of the scope of the Order, see the Issues and Decision Memorandum.

Analysis of Comments Received

All issues raised by parties in the case and rebuttal briefs are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Commerce received no comments and made no changes to the Preliminary Results for the 2019-2020 POR. Based on a review of the record and comments received from interested parties regarding our Preliminary Results for the 2020-2021 POR, we made certain changes to the preliminary weighted-average dumping margin calculations for Al Jazeera for the 2020-2021 POR.⁹ As a result of these changes, the preliminary weighted-average dumping margin also changes for the companies subject to this review, but not selected for individual examination.

⁹ See Issues and Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the rate for companies which were not selected for individual examination in an administrative review. Under section 735(c)(5)(A) of the Act, the all-others rate is normally an amount equal to the weighted average of the estimated weighted-average dumping margins established for exporters and producers individually investigated, excluding rates that are zero, de minimis (i.e., less than 0.5 percent), or determined entirely on the basis of facts available.

No companies other than Al Jazeera remain under review for the 2019-2020 POR.¹⁰ For the 2020-2021 POR, we calculated a weighted-average dumping margin for Al Jazeera that is not zero, de minimis, or determined entirely on the basis of facts available. Accordingly, Commerce has assigned to companies not individually examined for the 2020-2021 POR a margin of 2.31 percent, which is Al Jazeera's calculated weighted-average dumping margin for the 2020-2021 POR.

¹⁰ On March 9, 2021, Commerce published the rescission of the administrative review for the 2019-2020 POR with respect to Al Samna, Bollore Logistics, and Transworld Shipping. See Circular Welded Carbon-Quality Steel Pipe from Oman: Rescission of Antidumping Duty Administrative Review; 2019-2020, 86 FR 13525 (March 9, 2021).

Final Results of Review

Commerce determines that the following estimated weighted-average dumping margins exist for the periods December 1, 2019, through November 30, 2020, and December 1, 2020, through November 30, 2021:

Exporter/producer | Weighted-average dumping margin for December 1, 2019 to November 30, 2020 POR (percent) | Weighted-average dumping margin for December 1, 2020 to November 30, 2021 POR (percent)
Al Jazeera Steel Products Co. SAOG | 4.61 | 2.31
Al Samna Metal Manufacturing & Trading Company LLC ¹¹ | Not Applicable | 2.31
Bollore Logistics (Oman) LLC ¹² | Not Applicable | 2.31
Transworld Shipping Trading & Logistics Services LLC ¹³ | Not Applicable | 2.31

Disclosure

¹¹ Commerce rescinded the administrative review for the 2019-2020 POR for this company. See Preliminary Results, 87 FR at 79865, at fn. 2.

¹² Id.

¹³ Id.

We intend to disclose the calculations performed for these final results of review to interested parties within five days of the date of publication of this notice in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries for the 2019-2020 POR and the 2020-2021 POR, at the applicable ad valorem assessments rates listed for the corresponding review period. Pursuant to 19 CFR 351.212(b)(1), because Al Jazeera reported the entered value of its U.S. sales, we calculated importer-specific ad valorem duty assessment rates based on the ratio of the total amount of dumping calculated for the examined sales to the total entered value of the sales for which entered value was reported. Where an importer-specific assessment rate is de minimis (i.e., less than 0.5 percent), the entries by that importer will be liquidated without regard to antidumping duties.

Commerce's “automatic assessment” practice will apply to entries of subject merchandise during the 2019-2020 POR and the 2020-2021 POR produced by Al Jazeera for which it did not know that the merchandise was destined for the United States. In such instances, we will instruct CBP to liquidate unreviewed entries at the all-others rate if there is no rate for the intermediate company(ies) involved in the transaction.¹⁴

¹⁴ For a full discussion of this practice, see Antidumping and Countervailing Duty Proceedings: Assessment of Antidumping Duties, 68 FR 23954 (May 6, 2003).

For the companies which were not selected for individual examination for the 2020-2021 POR, we will instruct CBP to assess antidumping duties at a rate equal to the weighted-average dumping margin determined for the non-examined companies. Commerce intends to issue assessment instructions to CBP no earlier than 35 days after the date of publication of the final results of these reviews in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the date of publication of the final results of these administrative reviews, as provided by section 751(a)(2) of the Act: (1) the cash deposit rate for each company listed above will be equal to the weighted-average dumping margin established in the final results of the 2020-2021 review, except, if that rate is de minimis, then the cash deposit rate will be zero; (2) for previously reviewed or investigated companies not subject to this review, the cash deposit rate will continue to be the company-specific rate published for the most recently completed segment of this proceeding; (3) if the exporter is not a firm covered in this review or the original LTFV investigation, but the producer is, then the cash deposit rate will be the rate established for the most recently completed segment of this proceeding for the producer of the merchandise; and (4) if neither the exporter nor the producer is a firm covered in this or any previously completed segment of this proceeding, then the cash deposit rate will be the all-others rate of 7.36 percent that was established in the LTFV investigation.¹⁵ These cash deposit requirements, when imposed, shall remain in effect until further notice.

¹⁵ See Order, 81 FR at 91908.

Notification to Importers

This notice serves as a final reminder to importers of their responsibility under 19 CFR 351.402(f)(2) to file a certificate regarding the reimbursement of antidumping duties prior to liquidation of the relevant entries during the 2019-2020 POR and the 2020-2021 POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

Notification to Interested Parties

We are issuing and publishing this notice in accordance with sections 751(a)(1) and 777(i)(1) of the Act, and 19 CFR 351.213(h) and 19 CFR 351.221(b)(5).

Dated: June 8, 2023.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Whether Commerce Should Weight-Average and Match Al Jazeera's Home Market Sales to U.S. Sales by Month Instead of Quarter

Comment 2: Whether Commerce Properly Applied the Cost Recovery Test

VI. Recommendation

[FR Doc. 2023-12767 Filed 6-14-23; 8:45 am]

BILLING CODE 3510-DS-P